LEGAL SERVICES CORPORATION

Sunshine Act Meeting of the Board of Directors Committee on Provision for the Delivery of Legal Services

Time and Date: The Committee on Provision for the Delivery of Legal Services of the Legal Services Corporation Board of Directors will meet on August 23, 2002. The meeting will begin at 9 a.m. and continue until the Committee concludes its agenda.

Location: The Marriott at Metro Center, 775 12th Street, NW., Washington, DC.

Status of Meeting: Open.

Matters to be Considered: 1. Approval of agenda.

2. Approval of the minutes of the Committee's meeting of May 31, 2002.

3. Office of Program Performance (OPP) and Office of Information Management (OIM) “Matters” Project Update by Chris Sundseth and Glenn Rawdon.

4. Update by Randi Youells and John Meyer on 2003 Census Adjustments.

5. Focus on the Field—Presentation by Cynthia Schneider on the Challenges of Delivering Legal Services in Alaska.

6. Update by Althea Hayward on LSC's Diversity Initiatives/Creation of a Grantee Board Training Module on Diversity.

7. Update by Joyce Raby on the 2003 Technology Initiative Grants.

8. State Planning Update by Robert Gross.

9. Update by Reginald Haley on the 2003 Competition.

10. Consider and act on proposed 2003 Grant Assurances.

11. Consider and act on other business.

12. Public comment.

CONTACT PERSON FOR INFORMATION: Victor M. Fortuno, Vice President for Legal Affairs, General Counsel & Corporate Secretary of the Corporation, at (202) 336-8800.

Special Needs: Upon request, meeting notices will be made available in alternate formats to accommodate visual and hearing impairments. Individuals who have a disability and need an accommodation to attend the meeting may notify Elizabeth S. Cushing, at (202) 336-8800.

Dated: August 16, 2002.
Victor M. Fortuno,
Vice President for Legal Affairs, General Counsel & Corporate Secretary.

[FR Doc. 02-21362 Filed 8-16-02; 5:01 pm]

BILLING CODE 7050-01-P